DEPARTMENT OF EDUCATION

34 CFR Part 396

[Docket ID ED-2015-OSERS-0024]

Proposed Waiver and Extension of the Project Period; Regional Interpreter Education Centers for the Training of Interpreters for Individuals Who Are Deaf or Hard of Hearing and Individuals Who Are Deaf-Blind

AGENCY: Rehabilitation Services Administration (RSA), Office of Special Education and Rehabilitative Services (OSERS), Department of Education.

ACTION: Proposed waiver and extension of the project period.

Catalog of Federal Domestic Assistance (CFDA) Number: 84.160A.

SUMMARY: The Secretary proposes to waive the requirements that generally prohibit project periods exceeding five years and extensions of project periods involving the obligation of additional Federal funds for five 60-month projects initially funded in fiscal year (FY) 2010. The Secretary also proposes to extend the project period for these projects for one year. The proposed waiver and extension would enable the currently funded Regional Interpreter Education Centers for the training of interpreters for individuals who are deaf or hard of hearing and individuals who are deaf-blind to receive funding through September 30, 2016.

DATES: We must receive your comments on or before May 18, 2015.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about this proposed waiver and extension of the project period, address them to Kristen Rhinehart-Fernandez, U.S. Department of Education, 400 Maryland Avenue SW., Room 5027, Potomac Center Plaza (PCP), Washington, DC 20202-2800.

Privacy Note: The Department's policy is to make all comments received from members of the public available for public viewing in their entirety on the Federal eRulemaking Portal at www.regulations.gov. Therefore, commenters should be careful to include in their comments only information that they wish to make publicly available.

FOR FURTHER INFORMATION CONTACT: Kristen Rhinehart-Fernandez. Telephone: (202) 245-6103 or by email: Kristen.rhinehart@ed.gov.

If you use a telecommunications device for the deaf (TDD) or a text telephone (TTY), call the Federal Relay Service (FRS), toll-free, at 1-800-877-8339.

SUPPLEMENTARY INFORMATION:

Invitation to Comment: We invite you to submit comments about this proposed waiver and extension of the project period. During and after the comment period, you may inspect all public comments about this proposed waiver and extension of the project period by accessing Regulations.gov. You may also inspect all public comments in Room 5027, Potomac Center Plaza, 550 12th Street SW., Washington, DC, between the hours of 8:30 a.m. and 4:00 p.m., Washington, DC time, Monday through Friday of each week except Federal holidays.

Assistance to Individuals with Disabilities in Reviewing the Rulemaking Record: On request we will supply an appropriate accommodation or auxiliary aid to an individual with a disability who needs assistance to review the comments or other documents in the public rulemaking record for this proposed waiver and extension of the project period. If you want to schedule an appointment for this type of accommodation or auxiliary aid, please contact the person listed under FOR FURTHER INFORMATION CONTACT.

Background

On June 7, 2010, the Department published a notice inviting applications for new awards for FY 2010 (75 FR 32164) for Regional Interpreter Education Centers (Regional Centers) to be funded under the Rehabilitation Training Program, authorized under section 302 of the Rehabilitation Act of 1973, as amended (Rehabilitation Act). The purpose of the Regional Centers is to establish regional interpreter training programs that will train a sufficient number of qualified interpreters to meet the communications needs of individuals who are deaf or hard of hearing and individuals who are deaf-blind. The Department awarded grants to five Regional Centers in FY 2010 for a period of 60 months. All five projects are scheduled to end on September 30, 2015.

We have determined that it would not be in the public interest to run a competition under this program in FY 2015 for new Regional Centers. RSA has funded interpreter training programs since 1964 to meet the needs of its vocational rehabilitation (VR) consumers who are deaf, hard of hearing, and deaf-blind. At each critical juncture RSA has re-evaluated its interpreter training program to determine how to best meet the evolving needs of consumers of interpreting services. In the course of this ongoing re-evaluation, we have concluded that, since 2005, when the current priorities were established for the Regional Centers, the training needs of interpreters have changed as a result of new and emerging issues facing VR consumers who are deaf, hard of hearing, and deaf-blind.

Conducting a competition before the Department has had an opportunity to engage in strategic planning activities for the current program could result in (1) an ineffective or poorly targeted investment that would not meet the training needs of qualified interpreters and (2) the inability to sufficiently meet the communication needs of individuals who are deaf or hard of hearing and individuals who are deaf-blind. We intend to use the remainder of FY 2015 and part of FY 2016 to consider how Regional Centers can employ promising practices in their pedagogy and skill development training in order to meet the current and future needs of VR consumers who are deaf, hard of hearing, or deaf-blind so that they can obtain competitive integrated employment. We also plan to use online forums to collect input and feedback from local and national partner networks, including consumer and professional organizations for interpreting and interpreter training. These activities will inform our development of new funding priorities for publication in FY 2016.

We have also concluded that it would be contrary to the public interest to have a lapse in the provision of the training currently provided by the Regional Centers. Allowing funding to lapse before a new interpreter education delivery system can be implemented would leave individuals who are deaf or hard of hearing and individuals who are deaf-blind without necessary supports in the event that critical needs arise.

For these reasons, the Secretary proposes to waive the requirements in 34 CFR 75.250, which prohibit project periods exceeding five years, and the requirements in 34 CFR 75.261(c)(2), which limits the extension of a project period if the extension involves the obligation of additional Federal funds, and to issue continuation awards to the five current grantees. Under this proposal, the five current grantees with project periods ending on September 30, 2015, would receive funding to operate for an additional 12 months. Consequently, the expiration date for all five grants would be September 30, 2016. With this proposed waiver and extension of the project period, each Regional Center will be required to develop a plan to demonstrate how it will continue to carry out activities during the year of the continuation award consistent with the scope, goals, and objectives of the grantee's application as approved in the 2010 competition. Such plans should be submitted to RSA for review and approval by September 1, 2015.

If the proposed waiver and extension of the project period are announced in a final notice in the Federal Register, the requirements applicable to continuation awards for this competition set forth in the 2010 notice inviting applications and the requirements in 34 CFR 75.253 would apply to any continuation awards sought by the current grantees. If we announce the waiver and extension as final, we will base our decisions regarding continuation awards on the program narratives, budgets, budget narratives, and program performance reports submitted by the current grantees, and the requirements in 34 CFR 75.253.

Regulatory Flexibility Act Certification

The Secretary certifies that this proposed waiver and extension of the project period would not have a significant economic impact on a substantial number of small entities. The only entities that would be affected are the five current grantees receiving Federal funds to serve as the Regional Centers and any other potential applicants.

The Secretary certifies that the proposed waiver and extension would not have a significant economic impact on these entities because the extension of an existing project period imposes minimal compliance costs, and the activities required to support the additional year of funding would not impose additional regulatory burdens or require unnecessary Federal supervision.

Paperwork Reduction Act of 1995

This notice of proposed waiver and extension of the project period does not contain any information collection requirements.

Intergovernmental Review: This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 13, 2015.
Sue Swenson,
Acting Assistant Secretary for Special Education and Rehabilitative Services.

[FR Doc. 2015-08912 Filed 4-16-15; 8:45 am]

BILLING CODE 4000-01-P